DEPARTMENT OF COMMERCE

International Trade Administration

[A-351-828]

Notice of Extension of Time Limit for the Final Results of Antidumping Duty Administrative Review: Certain Hot-Rolled Carbon Steel Flat Products From Brazil

AGENCY: Import Administration, International Trade Administration, Department of Commerce.

SUMMARY: The Department of Commerce is fully extending the time limit for the final results of the administrative review of the antidumping duty order on certain hot-rolled carbon steel flat products from Brazil. The period of review is March 1, 2003, through February 29, 2004. This extension is made pursuant to section 751(a)(3)(A) of the Tariff Act of 1930, as amended by the Uruguay Round Agreements Act.

EFFECTIVE DATE: July 12, 2005.

FOR FURTHER INFORMATION CONTACT: Helen Kramer or Kristin Najdi at (202) 482-0405 or (202) 482-8221, respectively; AD/CVD Operations, Office 7, Import Administration, International Trade Administration, U.S. Department of Commerce, 14th Street and Constitution Avenue, NW, Washington, DC 20230.

SUPPLEMENTARY INFORMATION:

Background

On April 6, 2005, the Department of Commerce (“the Department”) published the preliminary results of the administrative review of the antidumping duty order on certain hot-rolled carbon steel flat products from Brazil covering the period March 1, 2003, through February 29, 2004 (70 FR 17406). The final results for the antidumping duty administrative review of certain hot-rolled carbon steel flat products from Brazil are currently due no later than August 4, 2005.

Extension of Time Limits for Preliminary Results Section 751(a)(3)(A) of the Tariff Act of 1930, as amended by the Uruguay Agreement Act (the Act), requires the Department to issue the preliminary results of an administrative review within 245 days after the last day of the anniversary month of an antidumping duty order for which a review is requested and issue the final results within 120 days after the date on which the preliminary results are published. However, if it is not practicable to complete the review within the time period, section 741(a)(3)(A) of the Act allows the Department to extend these deadlines to a maximum of 365 days and 180 days, respectively.

The Department has determined it is not practicable to complete this review within the originally anticipated time limit (i.e., by August 4, 2005), in accordance with section 751(a)(3)(A) of the Act, for the following reasons: (1) the cost verification of the affiliated importer located in the United States is scheduled to take place July 20-22, 2005; (2) there is insufficient time for the briefing schedule following the sales and cost verifications; and (3) a domestic interested party has requested a hearing, which must take place after the briefs are filed. Accordingly, the Department is fully extending the time limits for completion of the final results to no later than October 3, 2005.

We are issuing and publishing this notice in accordance with Section 751(a)(1) and 777(i)(1) of the Act.

Dated: July 6, 2005.
Barbara E. Tillman,
Acting Deputy Assistant Secretary for Import Administration.

[FR Doc. E5-3685 Filed 7-11-05; 8:45 am]

BILLING CODE 3510-DS-S